DEPARTMENT OF HEALTH AND HUMAN SERVICES

National Institutes of Health

Center for Scientific Review; Amended Notice of Meeting

Notice is hereby given of a change in the meeting of the Center for Scientific Review Special Emphasis Panel, July 22, 2009, 8 a.m. to July 22, 2009, 5 p.m., Avenue Hotel Chicago, 160 E Huron, Chicago, IL 60611 which was published in the Federal Register on June 15, 2009, 74 FR 28260-28262.

The meeting will be two days July 22, 2009, 8 a.m. to July 23, 2009, 4 p.m. The meeting location remains the same. The meeting is closed to the public.

Dated: June 18, 2009.
Jennifer Spaeth,
Director, Office of Federal Advisory Committee Policy.

[FR Doc. E9-15120 Filed 6-25-09; 8:45 am]

BILLING CODE 4140-01-M